DEPARTMENT OF HEALTH AND HUMAN SERVICES

National Institutes of Health

Office of the Director, National Institutes of Health; Amended Notice of Meeting

Notice is hereby given of a change in the meeting of the Advisory Committee to the Director, National Institutes of Health, June 8, 2023, 9:00 a.m. to June 9, 2025, 3:00 p.m., National Institutes of Health, Building 1, Wilson Hall, One Center Drive, Bethesda, MD 20892 which was published in the Federal Register on May 19, 2023, FR Doc 2023-10689, 88 FR 32235.

This notice is being amended to change the meeting format from Hybrid to Virtual in addition to the meeting start and end times. The open session meeting on June 8, 2023 will now be held from 10:00 a.m. to 5:00 p.m. instead of from 9:00 a.m. to 4:45 p.m. The closed session on June 8, 2023 will be held from 5:10 p.m.-5:45 p.m. instead of from 4:55 p.m. to 5:30 p.m. The open session meeting on June 9, 2023 will now be held from 10:30 a.m. to 4:30 p.m. instead of from 9:00 a.m. to 3:00 p.m. The meeting is partially closed to the public.

Dated: May 31, 2023.
David W. Freeman,
Supervisory Program Analyst, Office of Federal Advisory Committee Policy.

[FR Doc. 2023-11967 Filed 6-5-23; 8:45 am]

BILLING CODE 4140-01-P